DEPARTMENT OF THE INTERIOR

Bureau of Indian Affairs

Class III Gaming; Tribal Revenue Allocation Plans; Gaming on Trust Lands

AGENCY: Bureau of Indian Affairs, Interior.

ACTION: Notice of submission of information collection renewal to the Office of Management and Budget.

SUMMARY: In compliance with the Paperwork Reduction Act, the Bureau of Indian Affairs (BIA) is submitting the following information collections to the Office of Management and Budget (OMB) for renewal: Class III Gaming Procedures 25 CFR 291, 1076-0149; Tribal Revenue Allocation Plans 25 CFR 290, 1076-0152; and Gaming On Trust Lands Acquired After October 17, 1988, 25 CFR 292, 1076-0158. The current approvals for the first two collections (1076-1049 and 1076-0152) expire August 31, 2009 and the current approval for the third collection (1076-0158) expires February 28, 2010. Renewal will allow us to continue to collect the information necessary to comply with the Indian Gaming Regulatory Act (IGRA).

DATES: Submit comments on or before September 8, 2009.

ADDRESSES: Submit comments on the information collection to the Desk Officer for the Department of the Interior, OIRA, Office of Management and Budget, by fax at (202) 395-5806 or e-mail at OIRA_DOCKET@ omb.eop.gov.

Please send a copy of your comments to: Paula L. Hart, Office of Indian Gaming, Mail Stop 3657-MIB, 1849 C Street, NW., Washington, DC 20240, Facsimile: (202) 273-3153.

FOR FURTHER INFORMATION CONTACT: You may request further information or obtain copies of the proposed information collection request from Paula L. Hart, Telephone: (202) 219-4066.

SUPPLEMENTARY INFORMATION:

I. Abstract

This information collection is necessary for the BIA, Office of Indian Gaming, to ensure that the applicable requirements for IGRA, 25 U.S.C. 2701 et seq., are met with regard to Class III gaming procedures, tribal revenue allocation plans, and applications for gaming on trust lands acquired after October 17, 1988.

II. Request for Comments

The BIA requests your comments on this collection concerning: (a) The necessity of this information collection for the proper performance of the functions of the agency, including whether the information will have practical utility; (b) the accuracy of the agency's estimate of the burden (hours and cost) of the collection of information, including the validity of the methodology and assumptions used; (c) ways we could enhance the quality, utility and clarity of the information to be collected; and (d) ways we could minimize the burden of the collection of the information on respondents, such as through the use of automated collection techniques or other forms of information technology.

Please note that an agency may not sponsor or conduct an individual need not respond to, a collection of information unless it has a valid OMB Control Number.

OMB has up to 60 days to make a decision on the submission for renewal, but may make the decision after 30 days. Therefore, to receive the best consideration of your comments, you should submit them by the due date (see DATES).

It is our policy to make all comments available to the public for review at the Office of Indian Gaming, Room 3657 MIB, 1849 C Street, NW., Washington, DC during the hours of 9 a.m. to 4 p.m., EDT, Monday through Friday except for legal holidays. Before including your address, phone number, e-mail address or other personally identifiable information, be advised that your entire comment—including your personally identifiable information—may be made public at any time. While you may request that we withhold your personally identifiable information, we cannot guarantee that we will be able to do so.

III. Data

A. Class III Gaming Procedures

OMB Control Number: 1076-0149.

Title: Class III Gaming Procedures, 25 CFR 291.

Brief Description of Collection: The collection of information will ensure that the provisions of IGRA and other applicable requirements are met when federally recognized tribes submit Class III procedures for review and approval by the Secretary of the Interior. Sections 291.4, 291.10, 291.12 and 291.15 of 25 CFR Part 291, Class III Gaming Procedures, specify the information collection requirement. An Indian tribe must ask the Secretary to issue Class III gaming procedures. The information to be collected includes: The name of the tribe, the name of the State, tribal documents, State documents, regulatory schemes, the proposed procedures, and other documents deemed necessary.

Type of Review: Extension without change of a currently approved collection.

Respondents: Federally recognized Indian tribes.

Number of Respondents: 12.

Estimated Time Per Response: 320 hours on average.

Frequency of Response: One time.

Total Annual Burden to Respondents: 3,840 hours.

Total Annual Cost to Respondents: $0.

B. Tribal Revenue Allocation Plans

OMB Control Number: 1076-0152.

Title: Tribal Revenue Allocation Plans, 25 CFR Part 290.

Brief Description of Collection: An Indian tribe must ask the Secretary to approve a tribal revenue allocation plan. In order for Indian tribes to distribute net gaming revenues in the form of per capita payments, information is needed by the BIA to ensure that tribal revenue allocation plans include (1) Assurances that certain statutory requirements are met, (2) a breakdown of the specific uses to which net gaming revenues will be allocated, (3) eligibility requirements for participation, (4) tax liability notification, and (5) the assurance of the protection and preservation of the per capita share of minors and legal incompetents. Sections 290.12, 290.17, 290.24 and 290.26 of 25 CFR Part 290, Tribal Revenue Allocation Plans, specify the information collection requirement. The information to be collected includes: The name of the tribe, tribal documents, the allocation plan, and other documents deemed necessary.

Type of Review: Extension without change of a currently approved collection.

Respondents: Federally recognized Indian tribes.

Number of Respondents: 20.

Estimated Time Per Response: 100 hours.

Frequency of Response: One time.

Total Annual Burden to Respondents: 2,000 hours.

Total Annual Burden Cost to Respondents: $0.

C. Gaming on Trust Lands Acquired After October 17, 1988

OMB Control No. 1076-0158.

Title: Gaming on Trust Lands Acquired After October 17, 1988, 25 CFR part 292.

Brief Description of Collection: The collection of information will ensure that the provisions of IGRA, Federal law, and the trust obligations of the United States are met when federally recognized tribes submit an application under 25 CFR part 292. The applications covered by this OMB Control No. are those seeking a Secretarial determination that a gaming establishment on land acquired in trust after October 17, 1988 would be in the best interest of the Indian tribe and its members, and would not be detrimental to the surrounding community.

Type of Review: Extension without change of a currently approved collection.

Respondents: Federally recognized Indian tribes.

Number of Respondents: 2.

Estimated Time Per Response: 1,000 hours.

Frequency of Response: Once.

Total Annual Burden to Respondents: 2,000 hours.

Total Annual Cost to Respondents: $0.

Dated: July 31, 2009.
Christine Cho,
Acting Chief Information Officer—Indian Affairs.

[FR Doc. E9-18886 Filed 8-6-09; 8:45 am]

BILLING CODE 4310-4J-P